LEGAL SERVICES CORPORATION

Sunshine Act Meetings; Notice

DATE AND TIME: The Legal Services Corporation's Board of Directors will meet remotely on Monday, November 16, 2020. The meeting will commence at 2:30 p.m., EDT, and will continue until the conclusion of the Board's agenda.

LOCATION: Public Notice of Virtual Remote Meeting

Legal Services Corporation (LSC) will be conducting the November 16, 2020 meeting remotely via ZOOM.

PUBLIC OBSERVATION: Unless otherwise noted herein, the Board meeting will be open to public observation. Members of the public who wish to participate remotely may do so by following the directions provided below.

DIRECTIONS FOR OPEN SESSION:

• To join the Zoom meeting by computer, please click this link.

• Meeting ID: 928 0183 3531.

• Passcode: 909322.

• To join the Zoom meeting with one tap from your mobile phone, please click below:

+16468769923,92801833531# US (New York)

+13017158592,92801833531# US (Germantown)

• To join the Zoom meeting by phone, please use the information below:

• Dial by your location:

+1 646 876 9923 US (New York)

+1 301 715 8592 US (Germantown)

+1 312 626 6799 US (Chicago)

+1 346 248 7799 US (Houston)

+1 408 638 0968 US (San Jose)

+1 669 900 6833 US (San Jose)

+1 253 215 8782 US (Tacoma)

Meeting ID: 928 0183 3531. Find your local number: https://lsc-gov.zoom.us/u/acEGSfYILW.

• When connected to the call, please immediately “MUTE” your telephone. Members of the public are asked to keep their telephones muted to eliminate background noises. To avoid disrupting the meeting, please refrain from placing the call on hold if doing so will trigger recorded music or other sound. From time to time, the Chair may solicit comments from the public.

STATUS OF MEETINGS: Open.

MATTERS TO BE CONSIDERED:

Board of Directors

1. Approval of agenda

2. Approval of minutes of the Board's Open Session meeting of October 20, 2020

3. Consider and act on the Board of Directors' transmittal to accompany the Inspector General's Semiannual Report to Congress for the period of April 1, 2020 through September 30, 2020

4. Public comment

5. Consider and act on other business

6. Consider and act on adjournment of meeting

CONTACT PERSON FOR INFORMATION: Karly Satkowiak, Special Counsel and Katherine Ward, Executive Assistant to the Vice President & General Counsel, at (202) 295-1633. Questions may be sent by electronic mail to FR_NOTICE_QUESTIONS@lsc.gov.

ACCESSIBILITY: LSC complies with the Americans with Disabilities Act and Section 504 of the 1973 Rehabilitation Act. Upon request, meeting notices and materials will be made available in alternative formats to accommodate individuals with disabilities. Individuals needing other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: November 9, 2020.
Katherine Ward,
Executive Assistant to the Vice President for Legal Affairs and General Counsel.

[FR Doc. 2020-25161 Filed 11-9-20; 4:15 pm]

BILLING CODE 7050-01-P